DEPARTMENT OF JUSTICE

Notice of Lodging of Proposed Consent Decree Under the Clean Water Act

On May 24, 2024, the Department of Justice lodged a proposed Consent Decree with the United States District Court for the District of Alaska in the lawsuit entitled United States v. PSF, Inc., Peter Pan Seafood Company, LLC, and Silver Bay Seafoods-Valdez, LLC, Civil Action No. 3:24-cv-00112.

In the Complaint, the United States alleges that Defendants PSF, Inc., Peter Pan Seafood Company, LLC, and Silver Bay Seafoods-Valdez, LLC violated section 301(a) of the Clean Water Act, 33 U.S.C. 1311(a), by violating the permit conditions and limitations of the National Pollutant Discharge Elimination System (NPDES) permits issued to Defendants by the U.S. Environmental Protection Agency and the Alaska Department of Environmental Conservation under section 402(a) of the Clean Water Act, 33 U.S.C. 1342(a) at their respective facilities in Valdez and King Cove, Alaska. The proposed Consent Decree resolves the claims in the Complaint with covenants not to sue, in return for injunctive relief and $750,000 in civil penalties.

The publication of this notice opens a period for public comment on the Consent Decree. Comments should be addressed to the Assistant Attorney General, Environment and Natural Resources Division, and should refer to United States v. PSF, Inc., Peter Pan Seafood Company, LLC, and Silver Bay Seafoods-Valdez, LLC, D.J. Ref. No. 90-5-1-1-12463. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed in whole or in part on the public court docket without notice to the commenter.

During the public comment period, the Consent Decree may be examined and downloaded at this Justice Department website: https://www.justice.gov/enrd/consent-decrees. If you require assistance accessing the Consent Decree, you may request assistance by email or by mail to the addresses provided above for submitting comments.

Kathryn C. Macdonald,
Assistant Section Chief, Environmental Enforcement Section, Environment and Natural Resources Division.

[FR Doc. 2024-11975 Filed 5-30-24; 8:45 am]

BILLING CODE 4410-15-P